SOCIAL SECURITY ADMINISTRATION

President's Commission To Strengthen Social Security

AGENCY: Social Security Administration (SSA).

ACTION: Notice; comments requested.

SUMMARY: The President's Commission to Strengthen Social Security is seeking ideas from the public about how to address the financing problems facing Social Security in preparation for its September 2001 public hearings.

DATE: Submissions required by August 15, 2001.

SUPPLEMENTARY INFORMATION: Purpose: At its September 6 and September 21 hearings, the Commission would like to hear from the American people about their ideas for how to address the financial problems facing Social Security. The Commission seeks a broad range of ideas that will help the members craft recommendations to modernize and restore fiscal soundness to the Social Security system, as required by Presidential Executive Order 13210.

The commissioners welcome comment from any individual or organization regarding how best to preserve and strengthen Social Security. Areas of particular interest are:

• How to financially sustain the Social Security system.

• How personal accounts, if they are part of your Social Security solution, should be financed, structured and administered.

Send comments to the Commission:

• Internet at http://www.CSSS.gov using address: Comments@CSSS.gov; or

• Mail to President's Commission to Strengthen Social Security, 734 Jackson Place, NW, Washington, DC, 20503.

Dated: August 3, 2001.
Michael A. Anzick,
Designated Federal Official.

[FR Doc. 01-19849 Filed 8-7-01; 8:45 am]

BILLING CODE 4191-02-P